DEPARTMENT OF HOMELAND SECURITY

Coast Guard

[Docket No. USCG-2016-0017]

Policy Letter: Guidance for Training of Deck Officers on Vessels Subject to the International Code for Ships Operating in the Polar Waters

AGENCY: Coast Guard, DHS.

ACTION: Notice of availability.

SUMMARY: The Coast Guard announces the availability, in the docket, of a policy letter which provides voluntary guidance for the training of deck officers on vessels operating in polar waters. It recommends training measures that will achieve a higher level of safety for mariners working in this specialized polar environment. It is applicable to SOLAS vessels operating outside the boundary line and subject to the International Code for Ships Operating in Polar Waters (Polar Code). The draft policy letter and voluntary guidance would not apply to vessels on voyages that do not operate in areas subject to the Polar Code.

DATES: This policy letter is effective on February 12, 2016.

FOR FURTHER INFORMATION CONTACT: If you have questions about this document, contact Cathleen Mauro, Marine Personnel Qualifications Division (CG-OES-1), U.S. Coast Guard; telephone 202-372-1449, or Cathleen.B.Mauro@uscg.mil.

SUPPLEMENTARY INFORMATION:

Viewing Materials in the Docket

The policy letter is available in the docket and can be viewed by going to www.regulations.gov, inserting USCG-2016-0017 in the “Keyword” box, and then clicking “Search.”

Background and Purpose

Current shipping trends show an increase in the number of vessels regularly transiting remote polar areas. Vessels in polar waters experience unpredictable and poor weather conditions, degraded navigation tools, threats to operating equipment and increased stability concerns. In response to the challenges faced by these vessels and the concern for their safe operation, the International Maritime Organization (IMO) has adopted a mandatory code, the International Code for Ships Operating in Polar Waters, commonly referred to as the Polar Code. The Polar Code addresses safety and environmental requirements for vessels, as well as the level of training required for deck officers, and is expected to come into force on January 1, 2017.

In order to obtain input from U.S. stakeholders and to facilitate the development of the U.S. position at the IMO on the training requirements needed to support the Polar Code, the Merchant Marine Personnel Advisory Committee (MERPAC) chartered a working group in 2013 to address mariner training in support of the polar code. The working group developed a proposal that included the training competencies for U.S. mariners serving on ships operating in polar waters. The working group held multiple meetings and provided recommendations on minimum standards of competence, sea service, and recency requirements for polar training at the basic and advanced levels. The group also developed recommendations on how existing mariners with experience operating in polar waters would be grandfathered under the new requirements. MERPAC adopted the working group's recommendations, which provided the basis of the U.S. position regarding the relevant amendments to the International Convention on Standards of Training, Certification and Watchkeeping for Seafarers (STCW Convention), 1978, as amended, and the Seafarers' Training, Certification and Watchkeeping Code (STCW Code). The STCW Convention and Code provide the international standards for seafarers.

Through the work of the IMO's Sub-committee on Human Element, Training and Watchkeeping (HTW), amendments to the STCW Convention and Code were developed to define the training requirements needed to support the implementation of the Polar Code. These amendments were approved by the Maritime Safety Committee on its Ninety Fifth Session (MSC 95), and are expected to be adopted by the IMO in July of 2016. The amendments are expected to enter into force on January 1, 2018.

Cognizant that there is a gap between the time the Polar Code enters into force on January 1, 2017 and the adoption of the amendments to the STCW Convention by IMO in July of 2016, the Coast Guard has developed a policy letter that recommends training guidelines for deck officers on vessels operating in polar waters. The Coast Guard is providing this guidance to ensure there are sufficiently trained mariners by the time the Polar Code enters into force.

Discussion

Recognizing that the operation of ships sailing in polar waters calls for specific education, training, experience and related qualifications for officers, Resolution 11 of the 2010 amendments to the STCW Convention included non-mandatory guidance on training for deck and engineer officers serving on ships operating in polar waters. The guidance is contained in Section B-V/g of the STCW Code. The training requirements of the Polar Code, however, go beyond what is addressed in Section B-V/g of the STCW Code, by utilizing a risk-assessment to addresses the applicability of different levels of training required for deck officers engaged on ships operating in polar waters. Chapter 12 of The Polar Code identifies the level of training required for deck officers on ships subject to the Polar Code taking into account the type of vessel and the ice conditions in the operating area. The levels of training are either Basic or Advanced Training for Ships Operating in Polar Waters. The interim guidance in this policy is based upon the amendments to the STCW Convention and Code supporting the mandatory training requirements in Chapter 12 of the Polar Code.

The requirements to meet the standards of competence for Basic or Advanced Training for Ships Operating in Polar Waters are defined in the STCW amendments supporting the Polar Code. A mariner may satisfy the standard of competence for Basic or Advanced Training in Polar Code Operations by meeting the respective sea service and training requirements prescribed in Enclosure (1) of the Policy Letter.

By meeting the basic or advanced training standard required by the Polar Code, mariners are also meeting the familiarization requirements of 46 CFR 15.405, which states that each credentialed mariner must be familiar with the relevant characteristics of the vessel appropriate to his or her duties and responsibilities prior to assuming those duties and responsibilities. On board a seagoing vessel, this responsibility rests with both the mariner and the employer as set forth in 46 CFR 15.1105, which requires mariners subject to STCW to complete familiarization training before performing any duty or being assigned any responsibility unless they are familiar with those duties and responsibilities and with all of the vessel's arrangements, installations, equipment, procedures, and characteristics relevant to his or her routine and emergency duties or responsibilities.

If training regulations are published, training completed to meet the requirements described in the policy letter may be evaluated on a case by case basis, and considered to meet part of the transitional provisions of the training requirements for Basic or Advanced Polar Waters Operations.

Voluntary Policy

The guidance provided in this policy letter is voluntary, except where existing regulatory requirements are discussed. Although it may assist the industry, public, Coast Guard, and other Federal and State regulators in applying existing statutory and regulatory requirements, the policy letter and guidance it contains are not a substitute for applicable legal requirements nor are they regulations themselves. We note the ongoing work of the IMO in this area, in particular regarding training of personnel engaged in polar waters. Developments within this body will be taken into account during possible future revisions of the draft policy letter. During the course of local operations, each Coast Guard Captain of the Port (COTP) has discretionary authority on how best to address specific safety and security concerns within his or her area of responsibility consistent with 33 CFR 1.01-30. Nothing in the policy letter or the guidance it contains is meant to override or limit the discretion of the COTP when addressing the unique safety concerns of vessels operating in polar waters.

This notice is issued under authority of 5 U.S.C. 552(a).

Dated: February 8, 2016.
J.G. Lantz,
Director of Commercial Regulations and Standards, U.S. Coast Guard.

[FR Doc. 2016-02890 Filed 2-11-16; 8:45 am]

BILLING CODE 9110-04-P